DEPARTMENT OF DEFENSE

Department of the Army

[Docket ID: USA-2008-0054]

Privacy Act of 1974; System of Records

AGENCY: Department of the Army, DoD.

ACTION: Notice to Amend a System of Records.

SUMMARY: The Department of the Army is amending a system of records notice in its existing inventory of record systems subject to the Privacy Act of 1974, (5 U.S.C. 552a), as amended.

DATES: This proposed action will be effective without further notice on September 11, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: August 1, 2008.
Patricia L. Toppings,
OSD Federal Register Liaison Officer, Department of Defense.

A0027-60a DAJA

System name:

Patent, Copyright, Trademark, and Proprietary Data Files (February 22, 1993, 58 FR 10002).

Changes:

* * * * *

System location:

Delete entry and replace with “U.S. Army Legal Services Agency, JALS-IP, 901 North Stuart Street, Arlington, VA 22203-1837.”

* * * * *

Authority for maintenance of the system:

Delete entry and replace with “10 U.S.C. 3013, Secretary of the Army; 5 U.S.C. 301, Departmental Regulations, and Army Regulation 27-60, Intellectual Property.”

* * * * *

Storage:

Delete entry and replace with “Paper records in file folders and electronic storage media.”

* * * * *

Safeguards:

Change the word therefor to “therefore”.

* * * * *

A0027-60a DAJA

System name:

Patent, Copyright, Trademark, and Proprietary Data Files.

System location:

Primary location: U.S. Army Legal Services Agency, JALS-IP, 901 North Stuart Street, Arlington, VA 22203-1837.

Secondary location: Office of the Staff Judge Advocate at major Army commands, field operating agencies, and installations. Official mailing addresses are published as an appendix to the Army's compilation of systems of records notices.

Categories of individuals covered by the system:

Individuals who have submitted inventions to the Government; inventors with patents or applications for patents procured on behalf of the Department of the Army or in which the government has an interest; authors of copyrightable or copyrighted material in which the government has an interest; and government employees to whom copyright assistance has been rendered.

Categories of records in the system:

Documents relating to; disposition of rights in Government employees' inventions; foreign patent filings; licensing of government-owned patents, copyrights, and service marks; government interest in or under patents, applications for patent, and copyrights procured on behalf of the Department of the Army; and invention disclosures including drawings, patentability search reports, evaluation reports, applications, amendments, petitions, appeals, interferences, licenses, assignments, other instruments, and relevant correspondence.

Authority for maintenance of the system:

10 U.S.C. 3013, Secretary of the Army; 5 U.S.C. 301, Departmental Regulations, and Army Regulation 27-60, Intellectual Property.

Purpose(s):

To determine the rights in government employee inventions, and to maintain evidence and record of documents used in filing for foreign patents; invention disclosures submitted to the Department of the Army; patents and applications for patent procured on behalf of the Army or in which the Army has an interest; patent and copyright licensing and assignments; and copyright assistance rendered.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The U.S. Patent and Trademark Office, Department of Commerce, and/or to the Copyright Office, Library of Congress.

In the event of legal proceedings and litigation, information may be disclosed to the Civil Division, Department of Justice.

For foreign patent filings records are presented to the Director of Patent Administration, Department of National Defense in Ottawa, Ontario, Canada.

Parties to a licensing arrangement have access to the specific files involved.

Concerned contractors and/or Government agencies have access in order to conduct patent investigations and evaluations.

Information from this system of records may be disclosed to law students participating in a volunteer legal support program approved by the Judge Advocate General of the Army.

The “Blanket Routine Uses” set forth at the beginning of the Army's compilation of systems of records notices also apply to this system.

Policies and practices for storing, retrieving, accessing, retaining, and disposing of records in the system:

Storage:

Paper records in file folders and electronic storage media.

Retrievability:

By individual's surname.

Safeguards:

Records are maintained in buildings protected by secured guards, and are accessible only to authorized persons having need therefore in the performance of official duties.

Retention and disposal:

At the primary location: records pertaining to patent matters are retained for 20 to 25 years depending on the specific case; those concerning copyright matters are retained either for 56 years or an expiration of copyright not renewed, after which they are destroyed by shredding.

Records at the secondary locations are destroyed after 2 years.

System manager(s) and address:

The Judge Advocate General, Headquarters, Department of the Army, Washington, DC 20310-2210; senior patent attorney at each secondary location.

Notification procedure:

Individuals seeking to determine whether information about themselves is contained in this system should address written inquiries to the Judge Advocate General, Headquarters, Department of the Army, Washington, DC 20310-2210.

Individuals should provide full name, current address and telephone number, the case number or other identifying information on correspondence emanating from the Army.

Record access procedures:

Individuals seeking access to information about themselves contained in this system should address written inquiries to the Judge Advocate General, Headquarters, Department of the Army, Washington, DC 20310-2210.

Individuals should provide full name, current address and telephone number, the case number or other identifying information on correspondence emanating from the Army.

Contesting record procedures:

The Army's rules for accessing records, and for contesting contents and appealing initial agency determinations are contained in Army Regulation 340-21; 32 CFR part 505; or may be obtained from the system manager.

Record source categories:

From the individual, Army records, the government agency interested in the invention or copyright, research material in libraries, the Patent and Trademark Office, and/or the Copyright Office.

Exemptions claimed for the system:

None.

[FR Doc. E8-18590 Filed 8-11-08; 8:45 am]

BILLING CODE 5001-06-P